DEPARTMENT OF ENERGY

Federal Energy Regulatory Commission

[Docket No. RP01-251-000]

TransColorado Gas Transmission Company; Notice of Reimbursement Report and Tariff Filing

March 6, 2001.

Take notice that on March 1, 2001, TransColorado Gas Transmission Company (TransColorado) tendered for filing its annual Fuel Gas Reimbursement Percentage (FGRP) report and proposed a 0.1% variance adjustment to be effective April 1, 2001.

TransColorado also tendered for filing as part of its FERC Gas Tariff, Original Volume No. 1, Sixth Revised Sheet No. 247 and Second Revised Sheet No. 247A, to be effective April 1, 2001.

TransColorado states that the filing it being made to revise its FGRP provision to allow for the recovery or return of lost, gained, or unaccounted-for gas in connection with transportation service for future Phase I shippers.

TransColorado states that it does not intend to apply the Lost and Unaccounted for provisions to existing Phase I contracts. The Phase I Lost and Unaccounted-for gas provision will only be applied to contracts entered into after March 1, 2001, because TransColorado's existing Phase I shippers contracted that they would not be subject to a fuel or lost and unaccounted-for gas reimbursement and TransColorado believe that it is bound to honor those agreements.

TransColorado stated that a copy of this filing has been served upon its customers, the New Mexico Public Utilities Commission and the Colorado Public Utilities Commission.

Any person desiring to be heard or to protest said filing should file a motion to intervene or a protest with the Federal Energy Regulatory Commission, 888 First Street, NE., Washington, DC 20426, in accordance with sections 385.214 or 385.211 of the Commission's Rules and Regulations. All such motions or protests must be filed on or before March 13, 2001. Protests will be considered by the Commission in determining the appropriate action to be taken, but will not serve to make protestants parties to the proceedings. Any person wishing to become a party must file a motion to intervene. Copies of this filing are on file with the Commission and are available for public inspection in the Public Reference Room. This filing may be viewed on the web at http://www/ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-6001 Filed 3-9-01; 8:45 am]

BILLING CODE 6717-01-M